DEPARTMENT OF THE INTERIOR

Fish and Wildlife

Notice of Intent To Prepare Comprehensive Conservation Plans and Associated Environmental Document for Missisquoi National Wildlife Refuge

AGENCY: Fish and Wildlife Service, Interior.

SUMMARY: This notice advises the public that the U.S. Fish and Wildlife Service (Service) intends to gather information necessary to prepare a Comprehensive Conservation Plan (CCP) and environmental documents pursuant to the National Environmental Policy Act and its implementing regulations. One CCP will be prepared for Missisquoi National Wildlife Refuge, located in Franklin County, Vermont. A Wilderness Review of Missisquoi NWR will also be completed concurrently in accordance with the Wilderness Act of 1964, as amended and Refuge Planning Policy 602 FW Chapters 1, 2, and 3. The Service is furnishing this notice in compliance with the National Wildlife Refuge System Administration Act of 1966, as amended (16 U.S.C. 668dd et seq.):

(1) to advise other agencies and the public of our intentions, and (2) to obtain suggestions and information on the scope of issues to include in the environmental documents.

DATES: Inquire at the address below for dates of planning activity and due dates for comments. Further notice announcing times and locations of public meetings and open houses will be published in local news media prior to the hearing date.

ADDRESSES: Address comments, questions and requests for more information to the following: Refuge Manager, Missisquoi National Wildlife Refuge 371 North River St., Swanton, VT 05488-8148, (802) 868-4781.

SUPPLEMENTARY INFORMATION: By Federal law, all lands within the National Wildlife Refuge System are to be managed in accordance with an approved CCP. The CCP guides management decisions and identifies refuge goals, long-range objectives, and strategies for achieving refuge purposes. The planning process will consider many elements including habitat and wildlife management, habitat protection and acquisition, public use, and cultural resources. Public input into this planning process is essential. The CCP will provide other agencies and the public with a clear understanding of the desired conditions for the Refuges and how the Service will implement management strategies.

The Service will solicit public input via open houses, public meetings, workshops, and written comments. Special mailings, newspaper articles, and announcements will inform people of the time and place of such opportunities for public input to the CCP.

Missisquoi National Wildlife Refuge (NWR) includes 6,592 acres of the Missisquoi River delta's marshes, open water, old fields and wooded swamps. Comments on the protection of threatened and endangered species and migratory birds and the protection and management of their habitats will be solicited as part of the planning process. A draft CCP is planned for public review in the fall of 2001.

Review of these projects will be conducted in accordance with the requirements of the National Environmental Policy Act of 1969, as amended (42 U.S.C. 4321 et seq.), NEPA Regulations (40 CFR Parts 1500-1508), other appropriate Federal laws and regulations, and Service policies and procedures for compliance with those regulations.

Dated: October 13, 2000.
Mamie A. Parker,
Acting Regional Director, U.S. Fish and Wildlife Service, Hadley, Massachusetts.

[FR Doc. 00-27019 Filed 10-19-00; 8:45 am]

BILLING CODE 4310-55-P